DEPARTMENT OF ENERGY

Federal Energy Regulatory Commission

[Docket Nos. ER01-3009-006, ER01-3153-006, and EL00-90-006]

New York Independent System Operator, Inc.; Morgan Stanley Capital Group, Inc. v. New York Independent System Operator, Inc.; Notice of Filing

April 9, 2002.

Take notice that on April 3, 2002, the New York Independent System Operator, Inc. (NYISO) tendered for filing with the Federal Energy Regulatory Commission (Commission) a compliance filing in accordance with the Commission's March 14, 2002, Order in the above-captioned proceedings.

The NYISO has mailed a copy of this compliance filing to all persons that have filed interconnection applications or executed Service Agreements under the NYISO Open Access Transmission Tariff, to the New York State Public Service Commission, and to the electric utility regulatory agencies in New Jersey and Pennsylvania. The NYISO has also mailed a copy to each person designated on the official service lists maintained by the Commission in the above-captioned proceedings.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: April 18, 2002.

Linwood A. Watson, Jr.,
Deputy Secretary.

[FR Doc. 02-9023 Filed 4-12-02; 8:45 am]

BILLING CODE 6717-01-P